DEPARTMENT OF LABOR

Employment and Training Administration

[TA-W-52,727]

Pryor Fish Camp, Kodiak, Alaska; Notice of Termination of Investigation

Pursuant to Section 221 of the Trade Act of 1974, as amended, an investigation was initiated on September 3, 2003 in response to a petition filed by a company official on behalf of workers of Pryor Fish Camp, Kodiak, Alaska.

The Department issued a negative determination applicable to the petitioning group of workers on September 10, 2003 (TA-W-52,697). No new information or change in circumstances is evident which would result in a reversal of the Department's previous determination. Consequently, further investigation would serve no purpose, and the investigation has been terminated.

Signed at Washington, DC this 25th day of September 2003.
Linda G. Poole,
Certifying Officer, Division of Trade Adjustment Assistance.

[FR Doc. 03-27839 Filed 11-4-03; 8:45 am]

BILLING CODE 4510-30-P